DEPARTMENT OF ENERGY

Federal Energy Regulatory Commission

Combined Notice of Filings

Take notice that the Commission has received the following Natural Gas Pipeline Rate and Refund Report filings:

Filings Instituting Proceedings

Docket Numbers: PR22-8-000.

Applicants: Louisville Gas and Electric Company.

Description: Submits tariff filing per 284.123(b),(e)/: Revised Statement of Operating Conditions Rate Change to be effective 11/1/2021.

Filed Date: 11/29/2021.

Accession Number: 20211129-5209.

Comments/Protests Due: 5 p.m. ET 12/20/21.

Docket Numbers: PR22-9-000.

Applicants: Valley Crossing Pipeline, LLC.

Description: Submits tariff filing per 284.123(b),(e)/: Valley Crossing PAL Filing to be effective 12/1/2021.

Filed Date: 11/29/2021.

Accession Number: 20211129-5214.

Comments/Protests Due: 5 p.m. ET 12/20/21.

Docket Numbers: RP22-358-000.

Applicants: Rockies Express Pipeline LLC.

Description: § 4(d) Rate Filing: REX 2021-11-30 Non-Conforming Negotiated Rate Amendment to be effective 12/1/2021.

Filed Date: 11/30/21.

Accession Number: 20211130-5089.

Comment Date: 5 p.m. ET 12/13/21.

Docket Numbers: RP22-359-000.

Applicants: Transcontinental Gas Pipe Line Company, LLC.

Description: § 4(d) Rate Filing: Negotiated Rates—Leidy South—Interim Svc 3—Seneca Resources to be effective 12/1/2021.

Filed Date: 11/30/21.

Accession Number: 20211130-5108.

Comment Date: 5 p.m. ET 12/13/21.

Docket Numbers: RP22-360-000.

Applicants: Northern Natural Gas Company.

Description: § 4(d) Rate Filing: 20211130 Negotiated Rate to be effective 12/1/2021.

Filed Date: 11/30/21.

Accession Number: 20211130-5111.

Comment Date: 5 p.m. ET 12/13/21.

Docket Numbers: RP22-361-000.

Applicants: Colorado Interstate Gas Company, L.L.C.

Description: § 4(d) Rate Filing: Negotiated Rate Agreements Update Filing (CSU Dec 21) to be effective 12/1/2021.

Filed Date: 11/30/21.

Accession Number: 20211130-5144.

Comment Date: 5 p.m. ET 12/13/21.

Docket Numbers: RP22-362-000.

Applicants: Natural Gas Pipeline Company of America LLC.

Description: § 4(d) Rate Filing: Update Filing—Removal of Expired Negotiated Rate Agreements—November 2021 to be effective 12/30/2021.

Filed Date: 11/30/21.

Accession Number: 20211130-5150.

Comment Date: 5 p.m. ET 12/13/21.

Docket Numbers: RP22-363-000.

Applicants: Tennessee Gas Pipeline Company, L.L.C.

Description: Compliance filing: Cashout Report 2020-2021 to be effective N/A.

Filed Date: 11/30/21.

Accession Number: 20211130-5151.

Comment Date: 5 p.m. ET 12/13/21.

Docket Numbers: RP22-364-000.

Applicants: Kinder Morgan Louisiana Pipeline LLC.

Description: § 4(d) Rate Filing: Fuel Adjustment to be effective 1/1/2022.

Filed Date: 11/30/21.

Accession Number: 20211130-5155.

Comment Date: 5 p.m. ET 12/13/21.

Docket Numbers: RP22-365-000.

Applicants: Young Gas Storage Company, Ltd.

Description: § 4(d) Rate Filing: Annual Fuel and Lost and Unaccounted For Filing to be effective 1/1/2022.

Filed Date: 11/30/21.

Accession Number: 20211130-5248.

Comment Date: 5 p.m. ET 12/13/21.

Docket Numbers: RP22-366-000.

Applicants: Equitrans, L.P.

Description: § 4(d) Rate Filing: Negotiated Rate Agreement Amendment Effective 12/1/2021 to be effective 12/1/2021.

Filed Date: 11/30/21.

Accession Number: 20211130-5279.

Comment Date: 5 p.m. ET 12/13/21.

Docket Numbers: RP22-367-000.

Applicants: Texas Eastern Transmission, LP.

Description: § 4(d) Rate Filing: Negotiated Rates—Various Releases eff 12-1-2021 to be effective 12/1/2021.

Filed Date: 12/1/21.

Accession Number: 20211201-5004.

Comment Date: 5 p.m. ET 12/13/21.

Docket Numbers: RP22-368-000.

Applicants: Maritimes & Northeast Pipeline, L.L.C.

Description: § 4(d) Rate Filing: Negotiated Rate—Northern Utilities 210363 Release eff 12-1-2021 to be effective 12/1/2021.

Filed Date: 12/1/21.

Accession Number: 20211201-5005.

Comment Date: 5 p.m. ET 12/13/21.

Docket Numbers: RP22-369-000.

Applicants: Algonquin Gas Transmission, LLC.

Description: § 4(d) Rate Filing: Negotiated Rates—Various Releases eff 12-1-2021 to be effective 12/1/2021.

Filed Date: 12/1/21.

Accession Number: 20211201-5007.

Comment Date: 5 p.m. ET 12/13/21.

Docket Numbers: RP22-370-000.

Applicants: Gulf South Pipeline Company, LLC.

Description: § 4(d) Rate Filing: Cap Rel Neg Rate Agmt (Constellation re-release to Exelon eff 12-1-2021) to be effective 12/1/2021.

Filed Date: 12/1/21.

Accession Number: 20211201-5010.

Comment Date: 5 p.m. ET 12/13/21.

Docket Numbers: RP22-371-000.

Applicants: Gulf South Pipeline Company, LLC.

Description: § 4(d) Rate Filing: Cap Rel Neg Rate Agmt (Marathon releases to Spire eff 12-1-2021) to be effective 12/1/2021.

Filed Date: 12/1/21.

Accession Number: 20211201-5011.

Comment Date: 5 p.m. ET 12/13/21.

Docket Numbers: RP22-372-000.

Applicants: NEXUS Gas Transmission, LLC.

Description: § 4(d) Rate Filing: Negotiated Rates—Various Releases eff 12-1-2021 to be effective 12/1/2021.

Filed Date: 12/1/21.

Accession Number: 20211201-5012.

Comment Date: 5 p.m. ET 12/13/21.

Docket Numbers: RP22-373-000.

Applicants: Gulf South Pipeline Company, LLC.

Description: § 4(d) Rate Filing: Amendment to Neg Rate Agmt (Aethon 53154) to be effective 12/1/2021.

Filed Date: 12/1/21.

Accession Number: 20211201-5014.

Comment Date: 5 p.m. ET 12/13/21.

Docket Numbers: RP22-374-000.

Applicants: Chandeleur Pipe Line, LLC.

Description: Annual Fuel Adjustment Filing of Chandeleur Pipe Line, LLC.

Filed Date: 12/1/21.

Accession Number: 20211201-5047.

Comment Date: 5 p.m. ET 12/13/21.

Docket Numbers: RP22-375-000.

Applicants: Equitrans, L.P.

Description: § 4(d) Rate Filing: Negotiated Rate Capacity Release Agreements—12/1/2021 to be effective 12/1/2021.

Filed Date: 12/1/21.

Accession Number: 20211201-5052.

Comment Date: 5 p.m. ET 12/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-376-000.

Applicants: Alliance Pipeline L.P.

Description: § 4(d) Rate Filing: Hess 2022 Tioga Usage Charge Filing to be effective 1/1/2022.

Filed Date: 12/1/21.

Accession Number: 20211201-5069.

Comment Date: 5 p.m. ET 12/13/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: December 1, 2021.
Kimberly D. Bose,
Secretary.

[FR Doc. 2021-26485 Filed 12-6-21; 8:45 am]

BILLING CODE 6717-01-P